DEPARTMENT OF THE INTERIOR

Bureau of Land Management

[OR-958-1430-ET; GP0-0063; (OR-19008, OR-19087)]

Public Land Order No. 7444; Revocation of Executive Order Dated January 19, 1917, and Partial Revocation of Secretarial Order Dated January 19, 1917; Oregon

AGENCY: Bureau of Land Management, Interior.

ACTION: Public Land Order.

SUMMARY: This order revokes an Executive order in its entirety and partially revokes a Secretarial order as to 3,690.67 acres of lands withdrawn for Bureau of Land Management Powersite Reserve No. 582 and Water Power Designation No. 3. The lands are no longer needed for the purpose for which they were withdrawn. This action will open approximately 3,690.67 acres to surface entry, subject to other segregations of record. All of the lands have been and will remain open to mining and mineral leasing subject to other segregations of record.

EFFECTIVE DATE: August 10, 2000.

FOR FURTHER INFORMATION CONTACT: Allison O'Brien, BLM Oregon/Washington State Office, P.O. Box 2965, Portland, Oregon 97208-2965, 503-952-6171.

By virtue of the authority vested in the Secretary of the Interior by Section 204 of the Federal Land Policy and Management Act of 1976, 43 U.S.C. 1714 (1994), it is ordered as follows:

1. The Executive Order dated January 19, 1917 and the Secretarial Order dated January 19, 1917, which established Bureau of Land Management Power Site Reserve No. 582 and Water Power Designation No. 3 respectively, are hereby revoked insofar as they affect the following described lands:

Willamette Meridian

T. 41 S., R. 5 E.,

Sec. 13, lots 1 and 2.

T. 40 S., R. 6 E.,

Sec. 1, lots 5, 6, 7, and 10, and NW¼SE¼;

Sec. 11, E½SW¼ and SE¼;

Sec. 13;

Sec. 23, lots 1 to 10, inclusive, SE¼ NE¼, W½NW¼, N½SE¼, and SW¼SE¼;

Sec. 27, lot 1, NE¼NE¼, S½NE¼, N½SE¼ and SW¼SE¼;

Sec. 35, lots 1 to 5, inclusive, and E½W½.

T. 41 S., R. 6 E.,

Sec. 3, N½NE¼, SE¼NE¼, NW¼, W½SW¼, NE¼SE¼ and S½SE¼;

Sec. 5, SE¼SE¼;

Sec. 7, lots 2, 3, 4, 9, 10, 11, and 12, NE¼, N½SE¼, and SW¼SE¼;

Sec. 9, NW¼NE¼, S½NE¼, NW¼, SE¼.

The areas described aggregate approximately 3,690.67 acres in Klamath County.

2. At 8:30 a.m. on August 10, 2000, the lands described in paragraph 1 will be opened to the operation of the public land laws generally, subject to valid and existing rights, other segregations of record, and the requirements of applicable law. All valid applications received at or prior to 8:30 a.m. on August 10, 2000, shall be considered as simultaneously filed at that time. Those received thereafter shall be considered in the order of filing.

3. The State of Oregon has a preference right as to the lands described in paragraph 1, except for other segregations of record, for public highway right-of-way or material sites for a period of 90 days from the date of publication of this order and any location, entry, selection, or subsequent patent shall be subject to any rights granted the State as provided by the Act of June 10, 1920, Section 24, as amended, 16 U.S.C. 818 (1994).

Dated: April 28, 2000.
Sylvia V. Baca,
Assistant Secretary of the Interior.

[FR Doc. 00-11849 Filed 5-10-00; 8:45 am]

BILLING CODE 4310-33-P